DEPARTMENT OF TRANSPORTATION

Federal Aviation Administration

14 CFR Part 39

[Docket No. FAA-2020-0419; Product Identifier 2019-CE-029-AD; Amendment 39-21118; AD 2020-09-04]

RIN 2120-AA64

Airworthiness Directives; AERMACCHI S.p.A. Airplanes

AGENCY: Federal Aviation Administration (FAA), DOT.

ACTION: Final rule; request for comments.

SUMMARY: The FAA is adopting a new airworthiness directive (AD) for AERMACCHI S.p.A. Models F.260, F.260B, F.260C, F.260D, F.260E, and F.260F airplanes. This AD results from mandatory continuing airworthiness information (MCAI) issued by the aviation authority of another country to identify and correct an unsafe condition on an aviation product. The MCAI describes the unsafe condition as cracks on the body of the flap actuators. The FAA is issuing this AD to require actions to address the unsafe condition on these products.

DATES: This AD is effective May 7, 2020.

The Director of the Federal Register approved the incorporation by reference of a certain publication listed in this AD as of May 7, 2020.

The FAA must receive comments on this AD by June 22, 2020.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact Leonardo Aircraft, Piazza Monte Grappa n. 4, 00195 Rome, Italy; telephone: +39 06.324731; fax: +39.06.3208621; email: in-service.configuration.ALA@leonardocompany.com or technicalassistance/ala@leonardocompany.com; internet: www.leonardocompany.com. You may view this referenced service information at the FAA, Airworthiness Products Section, Operational Safety Branch, 901 Locust, Kansas City, Missouri 64106. For information on the availability of this material at the FAA, call (816) 329-4148. It is also available on the internet at https://www.regulations.gov by searching for locating Docket No. FAA-2020-0419.

Examining the AD Docket

You may examine the AD docket on the internet at https://www.regulations.gov by searching for and locating Docket No. FAA-2020-0419; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Mike Kiesov, Aerospace Engineer, FAA, Small Airplane Standards Branch, 901 Locust, Room 301, Kansas City, Missouri 64106; telephone: (816) 329-4144; fax: (816) 329-4090; email: mike.kiesov@faa.gov.

SUPPLEMENTARY INFORMATION:

Discussion

The European Aviation Safety Agency (EASA), which is the Technical Agent for the Member States of the European Community, has issued AD No. 2019-0119-E, dated May 29, 2019 (referred to after this as “the MCAI”), to correct an unsafe condition for the specified products. The MCAI states:

During maintenance, cracks were found on the body of several flap actuators installed on F260 aeroplanes and held as spares. Investigation is ongoing to determine the root cause of the cracking.

This condition, if not detected and corrected, could lead to failure of the flap actuator, possibly resulting in reduced control of the aeroplane.

To address this potential unsafe condition, Leonardo, S.p.A. issued the [alert service bulletin] ASB to provide inspection instructions.

For the reason described above, this [EASA] AD requires inspections of the affect parts, and, depending on findings, replacement of an affected part with a serviceable part.

This [EASA] AD is considered an interim measure and further AD action may follow.

The EASA AD refers to Leonardo Aircraft, formerly Aermacchi S.p.A., as the design approval holder (DAH). The FAA type certificate holder of record for these models is AERMACCHI S.p.A. Therefore, this AD specifies AERMACCHI S.p.A. as the type certificate holder. You may examine the MCAI on the internet at http://www.regulations.gov by searching for and locating Docket No. FAA-2020-0419.

Related Service Information Under 1 CFR Part 51

The FAA reviewed Leonardo Aircraft Alert Service Bulletin No. 260SB-166, dated May 27, 2019. The service information contains procedures for inspecting the flap actuators, part numbers SF260-12-215-01, SF260-12-215-101, and SF260-12-215-09, for cracks and damage and taking necessary corrective action. This service information is reasonably available because the interested parties have access to it through their normal course of business or by the means identified in the ADDRESSES section.

FAA's Determination and Requirements of This AD

This product has been approved by the aviation authority of another country, and is approved for operation in the United States. Pursuant to our bilateral agreement with this State of Design Authority, they have notified the FAA of the unsafe condition described in the MCAI and service information referenced above. The FAA is issuing this AD because it evaluated all information provided by the State of Design Authority and determined the unsafe condition exists and is likely to exist or develop on other products of the same type design.

Interim Action

The FAA considers this AD interim action. The MCAI requires an initial fluorescent dye penetrant inspection within a short compliance time and repetitive visual inspections thereafter every 100 hours time-in-service (TIS). This AD requires the initial fluorescent dye penetrant inspection. The FAA plans to issue a superseding Notice of proposed rulemaking for the longer-term repetitive visual inspections to provide the public an opportunity to comment. In addition, the inspection reports required by this AD will provide Leonardo Aircraft and the FAA better insight into the nature, cause, and extent of the cracking. If final action is identified to address the unsafe condition, the FAA may consider further rulemaking for this reason as well.

FAA's Determination of the Effective Date

An unsafe condition exists that requires the immediate adoption of this AD. The FAA has found that the risk to the flying public justifies waiving notice and comment prior to adoption of this rule because cracks in the flap actuator could cause the flap actuator to fail and result in reduced control of the airplane. Therefore, the FAA finds good cause that notice and opportunity for prior public comment are impracticable. In addition, for the reason stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2020-0419; Product Identifier 2019-CE-029-AD” at the beginning of your comments. The FAA specifically invites comments on the overall regulatory, economic, environmental, and energy aspects of this AD. The FAA will consider all comments received by the closing date and may amend this AD because of those comments.

The FAA will post all comments received, without change, to https://www.regulations.gov, including any personal information you provide. The FAA will also post a report summarizing each substantive verbal contact received about this AD.

Costs of Compliance

The FAA estimates that this AD will affect 54 products of U.S. registry. The FAA also estimates that it will take about 4 work-hours per product to comply with the fluorescent dye penetrant inspection requirement and 1 work-hour per product to comply with the reporting requirement of this AD. The average labor rate is $85 per work-hour.

Based on these figures, the FAA estimates the cost of the initial inspection and reporting requirement required in this AD on U.S. operators to be $22,950, or $425 per product.

In addition, the FAA estimates that any necessary follow-on actions will take about 8 work-hours and require parts costing $5,000, for a cost of $5,680 per product. The FAA has no way of determining the number of products that may need these actions.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-09-04 Aermacchi S.p.A.: Amendment 39-21118; Docket No. FAA-2020-0419; Product Identifier 2019-CE-029-AD.

(a) Effective Date

This AD becomes effective May 7, 2020.

(b) Affected ADs

None.

(c) Applicability

This AD applies to AERMACCHI S.p.A. Models F.260, F.260B, F.260C, F.260D, F.260E, and F.260F airplanes, all serial numbers, certificated in any category.

(d) Subject

Air Transport Association of America (ATA) Code 27: Flight Controls.

(e) Reason

This AD was prompted by mandatory continuing airworthiness information (MCAI) issued by the aviation authority of another country to identify and correct an unsafe condition on an aviation product. The MCAI describes the unsafe condition as cracks on the body of the flap actuators. The FAA is issuing this AD to detect and correct cracks in the flap actuator, which could cause the flap actuator to fail. Failure of the flap actuator could result in reduced control of the airplane.

(f) Definition

For purposes of this AD, a serviceable part is a flap actuator part number (P/N) SF260-12-215-01, SF260-12-215-101, or SF260-12-215-09 that has:

(1) Accumulated less than 1,000 hours total time-in-service (TIS); or

(2) Passed the fluorescent dye penetrant inspection required by paragraph (g)(1) of this AD.

(g) Actions and Compliance

Unless already done, do the following actions in paragraphs (g)(1) through (3) of this AD:

(1) Within the compliance time listed in paragraph (g)(1)(i) or (ii), whichever occurs later, do a fluorescent dye penetrant inspection of the flap actuator, P/N SF260-12-215-01, P/N SF260-12-215-101, or P/N SF260-12-215-09, for cracks and damage by following Annex A of Leonardo Aircraft Alert Service Bulletin No. 260SB-166, dated May 27, 2019 (Leonardo ASB 260SB-166). If there is a crack or any damage, before further flight, remove the flap actuator from service and replace it with a serviceable part.

(i) Before the flap actuator accumulates 1,000 hours total TIS; or

(ii) Within 10 hours TIS after May 7, 2020 (the effective date of this AD) or with 30 days after May 7, 2020 (the effective date of this AD), whichever occurs first.

(2) Within 10 days after completing the inspection required by paragraph (g)(1) of this AD, report the results of the inspection to Leonardo Aircraft at the address listed in paragraph (k)(3) of this AD. Include the following information in the report: Flap actuator P/N, flap actuator serial number, hours TIS, batch number marks (if present) stamped on the body, the airplane serial number or registration (“N”) number, and a description of any cracks or damage found.

(3) As of May 7, 2020 (the effective date of this AD), do not install any flap actuator P/N SF260-12-215-01, SF260-12-215-101, or SF260-12-215-09 unless it is a serviceable part.

(h) Alternative Methods of Compliance (AMOCs)

The Manager, Small Airplane Standards Branch, FAA, has the authority to approve AMOCs for this AD, if requested using the procedures found in 14 CFR 39.19. Send information to ATTN: Mike Kiesov, Aerospace Engineer, FAA, Small Airplane Standards Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(i) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory as required by this AD; the nature and extent of confidentiality to be provided, if any. Send comments regarding this burden estimate or any other aspect of this collection of information, including suggestions for reducing this burden to: Information Collection Clearance Officer, Federal Aviation Administration, 10101 Hillwood Parkway, Fort Worth, TX 76177-1524.

(j) Related Information

Refer to MCAI European Aviation Safety Agency (EASA) AD No. 2019-0199-E, dated May 29, 2019, for related information. You may examine the MCAI on the internet at https://www.regulations.gov by searching for and locating Docket No. FAA-2020-0419.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Leonardo Aircraft Alert Service Bulletin No. 260SB-166, dated May 27, 2019.

(ii) [Reserved]

(3) For service information identified in this AD, contact Leonardo Aircraft, Piazza Monte Grappa n. 4, 00195 Rome, Italy; telephone: +39 06.324731; fax: +39.06.3208621; email: in-service.configuration.ALA@leonardocompany.com or technicalassistance/ala@leonardocompany.com; internet: www.leonardocompany.com.

(4) You may view this service information at the FAA, Airworthiness Products Section, Operational Safety Branch, 901 Locust, Kansas City, Missouri 64106. For information on the availability of this material at the FAA, call (816) 329-4148. It is also available on the internet at http://www.regulations.gov by searching for locating Docket No. FAA-2020-0419.

(5) You may view this service information that is incorporated by reference at the National Archives and Records Administration (NARA). For information on the availability of this material at NARA, call 202-741-6030, or go to: http://www.archives.gov/federal-register/cfr/ibr-locations.html.

Issued on May 1, 2020.
Lance T. Gant,
Director, Compliance & Airworthiness Division, Aircraft Certification Service.

[FR Doc. 2020-09730 Filed 5-6-20; 8:45 am]

BILLING CODE 4910-13-P